DEPARTMENT OF THE INTERIOR

Minerals Management Service

Agency Information Collection Activities: Proposed Collection; Comment Request

AGENCY: Minerals Management Service (MMS), Interior.

ACTION: Notice of extension of a currently approved information collection (1010-0114).

SUMMARY: To comply with the Paperwork Reduction Act of 1995 (PRA), we are inviting comments on a collection of information that we will submit to the Office of Management and Budget (OMB) for review and approval. The information collection request (ICR) concerns the paperwork requirements in the regulations under 30 CFR 250, Subpart A, General.

DATES: Submit written comments by July 20, 2004.

ADDRESSES: Mail or hand-carry comments to the Department of the Interior; Minerals Management Service; Attention: Rules Processing Team; Mail Stop 4024; 381 Elden Street; Herndon, Virginia 20170-4817.

FOR FURTHER INFORMATION CONTACT: Cheryl Blundon, Rules Processing Team at (703) 787-1600. You may also contact Cheryl Blundon to obtain a copy, at no cost, of the regulations that require the subject collection of information.

SUPPLEMENTARY INFORMATION: Title: 30 CFR Part 250, Subpart A, General.

OMB Control Number: 1010-0114.

Abstract: The Outer Continental Shelf (OCS) Lands Act, as amended (43 U.S.C. 1331 et seq. and 43 U.S.C. 1801 et seq.), authorizes the Secretary of the Interior (Secretary) to prescribe rules and regulations to administer leasing of the OCS. Such rules and regulations will apply to all operations conducted under a lease. Operations on the OCS must preserve, protect, and develop oil and natural gas resources in a manner that is consistent with the need to make such resources available to meet the Nation's energy needs as rapidly as possible; to balance orderly energy resource development with protection of human, marine, and coastal environments; to ensure the public a fair and equitable return on the resources of the OCS; and to preserve and maintain free enterprise competition.

Section 1332(6) of the OCS Lands Act requires that “operations in the [O]uter Continental Shelf should be conducted in a safe manner by well trained personnel using technology, precautions, and other techniques sufficient to prevent or minimize the likelihood of blowouts, loss of well control, fires, spillages, physical obstructions to other users of the waters or subsoil and seabed, or other occurrences which may cause damage to the environment or to property or endanger life or health.” This authority and responsibility are among those delegated to MMS. To carry out these responsibilities, MMS has issued regulations for leasing and operations on the OCS. The ICR to be submitted to OMB for review and approval concerns the reporting and recordkeeping elements of the 30 CFR 250, Subpart A, General regulations and related Notices to Lessees and Operators.

Federal policy and statutes require us to recover the cost of services that confer special benefits to identifiable non-Federal recipients. Section 250.165 requires a State lessee to pay a fee when applying for a right-of-use and easement on the OCS. The Independent Offices Appropriation Act (31 U.S.C. 9701), OMB Circular A-25, and the Omnibus Appropriations Bill (Pub. L. 104-133, 110 Stat. 1321, April 26, 1996) authorize agencies to collect these fees to reimburse us for the cost to process applications or assessments. This fee is the same as that required for filing pipeline right-of-way applications as specified in § 250.1010(a).

The MMS OCS Regions use the information collected under Subpart A to ensure that formal crane operator and rigger training, inspections, testing and maintenance are carried out; that all new and existing cranes installed on OCS fixed platforms must be equipped with anti-two block safety devices; to assure that uniform methods are employed by lessees for load testing of cranes; and that operations on the OCS are carried out in a safe and pollution-free manner, do not interfere with the rights of other users on the OCS, and balance the development of OCS resources with the protection of the environment.

We will protect information from respondents considered proprietary under the Freedom of Information Act (5 U.S.C. 552) and its implementing regulations (43 CFR part 2) and under regulations at 30 CFR 250.196, “Data and information to be made available to the public.” No items of a sensitive nature are collected. Responses are mandatory.

Frequency: The frequency varies by section, but is generally “on occasion.”

Estimated Number and Description of Respondents: Approximately 1 State and 130 Federal OCS oil and gas or sulphur lessees.

Estimated Annual Reporting and Recordkeeping “Hour” Burden: The currently approved “hour” burden for this information collection is 22,727 hours (we have recently combined the Information Collection burden for Subpart A, General with 22,467 hours and Subpart A—Crane Requirements (1010-0146) with 260 burden hours into this renewal). The following chart details the individual components and respective hour burden estimates of this ICR. In calculating the burdens, we assumed that respondents perform certain requirements in the normal course of their activities. We consider these to be usual and customary and took that into account in estimating the burden.

Citation 30 CFR 250 Subpart A and related forms/NTLs | Reporting or recordkeeping requirement | Hour burden
104; Form MMS-1832 | Appeal orders or decisions; appeal INCs | Burden included with 30 CFR 290 (1010-0121).
109(a); 110 | Submit welding, burning, and hot tapping plans | 2
115; 116 | Request determination of well 3 producibility; submit data & information; notify MMS of test | 2
118; 119; 121; 124 | Apply for injection or subsurface storage of gas | 10
130-133; Form MMS-1832 | Submit “green” response copy of form MMS-1832 indicating date violations (INCs) corrected | 2
| Request reconsideration from issuance of an INC | ½
| Request waiver of 14-day response time | ½
| Notify MMS before returning to operations if shut-in | ¼
133 | Request reimbursement for food, quarters, and transportation provided to MMS representatives (OCS Lands Act specifies reimbursement; no requests received in many years; minimal burden) | 1
135 MMS internal process | Submit PIP under MMS implementing procedures for enforcement actions | 40
140 | Request various oral approvals not specifically covered elsewhere in regulatory requirements | ¼
141 | Request approval to use new or alternative procedures, including BAST not specifically covered elsewhere in regulatory requirements | 20
142 | Request approval of departure from operating requirements not specifically covered elsewhere in regulatory requirements | 2
143; 144; 145; Form MMS-1123 | Submit designation of operator & report change of address or notice of termination; submit designation of local agent | ¼
150; 151; 152; 154(a) | Name and identify facilities, etc., with signs | 2
150; 154(b) | Name and identify wells with signs | 1
160; 161 | OCS lessees: Apply for new or modified right of use and easement to construct and maintain off-lease platforms, artificial islands, and installations and other devices; including notifications | 5
165 | State lessees: Apply for new or modified right-of-use and easement to construct and maintain off-lease platforms, artificial islands, and installations and other devices | 5
166 | State lessees: Furnish surety bond | Burden included with 30 CFR 256 (1010-0006).
168; 170; 171; 172; 174; 175; 177; 180(b), (d) | Request suspension of operations or production; submit schedule of work leading to commencement | 10
| Submit progress reports on SOO or SOP as condition of approval | 2
177(a) | Conduct site-specific study; submit results. No instances requiring this study in several years—could be necessary if a situation occurred such as severe damage to a platform or structure caused by a hurricane or a vessel collision | 80
177(b), (c), (d); 182; 183, 185; 194 | Various references to submitting new, revised, or modified exploration plan, development/production plan, or developmentoperations coordination document, and related surveys/reports | Burden included with 30 CFR 250, Subpart B (1010-0049).
180(a), (f), (g), (h), (i), (j) | Notify and submit report on various leaseholding operations and lease production activities | ½
180(a), (b), (c) | When requested, submit production data to demonstrate production in paying quantities to maintain lease beyond primary term | 6
180(e) | Request more than 180 days to resume operations | 3
181(d); 182(b), in 183(b)(2) | Request termination of suspension and cancellation of lease (no requests recent years for termination/cancellation of a lease; minimal burden) | 20
184 | Request compensation for lease cancellation mandated by the OCS Lands Act (no qualified lease cancellations in many years; minimal burden compared to benefit) | 50
190 | Submit requests, applications, and notices under various regulations | 20
191 | Report accidents, deaths, serious injuries, fires, explosions and blowouts | 7
191(a) | Report spills of oil | Burden included with 30 CFR 254 (1010-0091).
192; Form MMS-132 | Daily report of evacuation statistics for natural occurrence/hurricane (form MMS-132 in the GOMR) when circumstances warrant | 1
193 | Report apparent violations or non- compliance | 1½
194 NTL exception requests | Request departures from conducting exception archaeological resources surveys and/or submitting reports in GOMR | 1
194(c) | Report archaeological discoveries (only one instance in many years; minimal burden) | 1
195 | Submit data/information for post-lease G&G activity and request reimbursement | Burden included with 30 CFR 251 (1010-0048).
101-199 | General departure or alternative compliance requests not specifically covered elsewhere in Subpart A | 2
Recordkeeping Requirements
108(e) | Retain records of design and construction for life of crane, including installation records for any anti-two block safety devices; all inspection, testing, and maintenance for at 4 years; crane operator and all rigger personnel qualifications 4 years | 262
109(b) | Retain welding, burning, and hot tapping plan and approval for the life of the facility | ½
132(b)(3) | Make available all records related to inspections not specifically covered elsewhere in regulatory requirements | 1

Estimated Annual Reporting and Recordkeeping “Non-Hour Cost” Burden: The currently approved annual non-hour cost burden is an application filing fee ($2,350), which is required in § 250.165. This is the only paperwork cost burden identified for the Subpart A regulations.

Public Disclosure Statement: The PRA (44 U.S.C. 3501, et seq.) provides that an agency may not conduct or sponsor a collection of information unless it displays a currently valid OMB control number. Until OMB approves a collection of information, you are not obligated to respond.

Comments: Before submitting an ICR to OMB, PRA section 3506(c)(2)(A) requires each agency “* * * to provide notice * * * and otherwise consult with members of the public and affected agencies concerning each proposed collection of information * * *”. Agencies must specifically solicit comments to: (a) Evaluate whether the proposed collection of information is necessary for the agency to perform its duties, including whether the information is useful; (b) evaluate the accuracy of the agency's estimate of the burden of the proposed collection of information; (c) enhance the quality, usefulness, and clarity of the information to be collected; and (d) minimize the burden on the respondents, including the use of automated collection techniques or other forms of information technology.

Agencies must also estimate the “non-hour cost” burdens to respondents or recordkeepers resulting from the collection of information. The application fee discussed previously is the only identified non-hour cost burdens for the information collection aspects of 30 CFR 250, Subpart A. Therefore, if you have costs to generate, maintain, and disclose this information, you should comment and provide your total capital and startup cost components or annual operation, maintenance, and purchase of service components. You should describe the methods you use to estimate major cost factors, including system and technology acquisition, expected useful life of capital equipment, discount rate(s), and the period over which you incur costs. Capital and startup costs include, among other items, computers and software you purchase to prepare for collecting information, monitoring, and record storage facilities. You should not include estimates for equipment or services purchased: (i) Before October 1, 1995; (ii) to comply with requirements not associated with the information collection; (iii) for reasons other than to provide information or keep records for the Government; or (iv) as part of customary and usual business or private practices.

We will summarize written responses to this notice and address them in our submission for OMB approval. As a result of your comments, we will make any necessary adjustments to the burden in our submission to OMB.

Public Comment Policy: MMS's practice is to make comments, including names and addresses of respondents, available for public review during regular business hours. If you wish your name and/or address to be withheld, you must state this prominently at the beginning of your comment. MMS will honor this request to the extent allowable by law; however, anonymous comments will not be considered. All submissions from organizations or businesses, and from individuals identifying themselves as representatives or officials of organizations or businesses, will be made available for public inspection in their entirety.

MMS Federal Register Liaison Officer: Denise Johnson (202) 208-3976.

Dated: May 11, 2004.
E.P. Danenberger,
Chief, Engineering and Operations Division.

[FR Doc. 04-11520 Filed 5-20-04; 8:45 am]

BILLING CODE 4310-MR-U